DEPARTMENT OF COMMERCE

National Oceanic and Atmospheric Administration

Proposed Information Collection; Comment Request; Alaska Seabird Avoidance Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 3, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

The National Marine Fisheries Service Alaska Region actively seeks reduction of seabird incidental take in longline (hook-and-line) fisheries off Alaska through the Seabird Avoidance Program. The primary requirements of the Seabird Avoidance Program are: (1) Seabird avoidance gear must be onboard, made available for inspection upon request by specified persons, and must be used while hook-and-line gear is being deployed; (2) Use of a line or lines designed to deter seabirds from taking baited hooks (paired streamer line, single streamer line, or buoy bag line); (3) Offal discharge methods, including removal of hooks from any offal that is discharged;

(4) Collection of all seabirds that are incidentally taken on the observer-sampled portions of hauls using hook-and-line gear; and (5) A Seabird Avoidance Plan must be written, current, and onboard the vessel, and must be made available for inspection upon request by an authorized officer of the U.S. Coast Guard or NOAA Office for Law Enforcement.

II. Method of Collection

The Seabird Avoidance Plan must be written and signed by the vessel operator and displayed onboard the vessel, in a notebook or folder. Prior to departing for a fishing trip, the owner or operator must discuss his Seabird Avoidance Plan with the crew of the vessel, instructing and training them through seabird avoidance gear drills. For observed vessels, a copy of Seabird Avoidance Plan must be given to the observer if requested and should be discussed with the observer during a pre-departure meeting.

III. Data

OMB Number: 0648-0474.

Form Number: None.

Type of Review: Regular submission.

Affected Public: Not-for-profit institutions; and business or other for-profit organizations.

Estimated Number of Respondents: 2,000.

Estimated Time per Response: 8 hours to complete a Seabird Avoidance Plan.

Estimated Total Annual Burden Hours: 16,000.

Estimated Total Annual Cost to Public: $10,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 26, 2005.
Gwellnar Banks,
Management Analyst, Office of the Chief Information Officer.

[FR Doc. 05-21688 Filed 10-31-05; 8:45 am]

BILLING CODE 3510-22-P